DEPARTMENT OF JUSTICE

Federal Bureau of Investigation

Meeting of the Compact Council for the National Crime Prevention and Privacy Compact

AGENCY: Federal Bureau of Investigation, Department of Justice.

ACTION: Meeting notice.

SUMMARY: The purpose of this notice is to announce a meeting of the National Crime Prevention and Privacy Compact Council (Council) created by the National Crime Prevention and Privacy Compact Act of 1998 (Compact). Thus far, the Federal Government and 28 states are parties to the Compact which governs the exchange of criminal history records for licensing, employment, and similar purposes. The Compact also provides a legal framework for the establishment of a cooperative Federal-state system to exchange such records.

The United States Attorney General appointed 15 persons from State and Federal agencies to serve on the Council. The Council will prescribe system rules and procedures for the effective and proper operation of the Interstate Identification Index system.

Matters for discussion are expected to include:

(1) Standards to Invoke Noncriminal Justice Record Checks in the Matter of Emergencies and Disasters.

(2) Proposed Changes to the Security and Management Outsourcing Standard.

(3) Access to Department of Homeland Security Information by Local, State, and Federal Criminal Justice, Intelligence, and Authorized Noncriminal Justice Agencies: Update on the Progress to Date with Interoperability.

The meeting will be open to the public on a first-come, first-seated basis. Any member of the public wishing to file a written statement with the Council or wishing to address this session of the Council should notify Mr. Gary S. Barron at (304) 625-2803, at least 24 hours prior to the start of the session. The notification should contain the requestor's name and corporate designation, consumer affiliation, or government designation, along with a short statement describing the topic to be addressed and the time needed for the presentation. Requesters will ordinarily be allowed up to 15 minutes to present a topic.

DATES AND TIMES: The Council will meet in open session from 9 a.m. until 5 p.m., on May 13-14, 2009.

ADDRESSES: The meeting will take place at the Renaissance Atlanta Hotel Downtown, 590 West Peachtree Street, NW., Atlanta, Georgia, telephone (404) 881-6000.

FOR FURTHER INFORMATION CONTACT: Inquiries may be addressed to Mr. Gary S. Barron, FBI Compact Officer, Compact Council Office, Module D3, 1000 Custer Hollow Road, Clarksburg, West Virginia 26306, telephone (304) 625-2803, (304) 625-2868.

Dated: April 8, 2009.
Robert J. Casey,
Section Chief, Liaison, Advisory, Training and Statistics Section, Criminal Justice Information Services Division, Federal Bureau of Investigation.

[FR Doc. E9-9416 Filed 4-23-09; 8:45 am]

BILLING CODE 4410-02-M